COMMODITY FUTURES TRADING COMMISSION

Privacy Act of 1974: System of Records

AGENCY: Commodity Futures Trading Commission.

ACTION: Notice of new system of records.

SUMMARY: This notice adds a new system of records to the Commission's systems of records under the Privacy Act of 1974, Public Law 93-579, 5 U.S.C. 552a. The visitor information system contains information provided by visitors to the agency. The visitor provides identification, in the form of a driver's license, passport, or Federal/Military ID. The company affiliation of the visitor will also be requested. This information is scanned and linked to the name and office phone number of the CFTC employee sponsoring the visit, along with information on the location of the visit, time of entry, purpose of the visit, and the number of the badge issued to the visitor. The purpose of the information collection is to enhance the security of CFTC employees and property by verifying the identity of visitors, and to track the location of the visitor so that, in the event of an emergency, the agency can account for all the people in its space. Records in the visitor system will be retained for three months and then purged.

DATES: Comments on the establishment of the new system of records must be received no later than May 31, 2007. The new system of records will be effective June 11, 2007 unless the Commission receives comments which would result in a contrary determination.

ADDRESSES: Comments should be addressed to Eileen Donovan, Acting Secretary, Commodity Futures Trading Commission, Three Lafayette Centre, 1155 21st St., NW., Washington, DC 20581. Comments may be sent via electronic mail to secretary@cftc.gov.

FOR FURTHER INFORMATION CONTACT: Tamrah Semega, Office of the Executive Director, Office of Management Operations (202) 418-5155, Commodity Futures Trading Commission, Three Lafayette Centre, 1155 21st Street, NW., Washington, DC 20581.

SUPPLEMENTARY INFORMATION: In accordance with the Privacy Act of 1974, 5 U.S.C. 552a, and the Commission's implementing regulations, 17 CFR part 146, the Commission is publishing a description of a new system of records. The new system contains records related to visitors to the Commission.

The new system of records, as required by 5 U.S.C. 552a(r) of the Privacy Act, will be submitted to the Committee on Government Oversight and Reform of the U.S. House of Representatives, the Committee on Governmental Affairs of the U.S. Senate, and the Office of Management and Budget, pursuant to Appendix I to OMB Circular A-130, “Federal Agency Responsibilities for Maintaining Records About Individuals,” dated February 20, 1996 (61FR6435). Accordingly, the Commission is giving notice of the establishment of the following system of records:

CFTC-43

System Name:

Visitor Information System.

System Location:

The system is located in the Office of the Executive Director, Office of Management Operations, Commodity Futures Trading Commission, Three Lafayette Centre, 1155 21st Street, NW., Washington, DC 20581.

Categories of Individuals Covered by the System:

Visitors to the CFTC.

Categories of Records in the System:

Information from personal identity records, such as driver's license, passport, or Federal/Military ID; the number of the printed badge issued; location, date, and time of entry; company affiliation of visitor; name and phone number of the employee visited; and the purpose of the visit.

Authority for Maintenance of the System:

The Federal Property and Administrative Services Act of 1949 (63 Stat. 377), as amended; Homeland Security Presidential Directive 12 (HSPD-12), Policy for a Common Identification Standard for Federal Employees and Contractors, August 27, 2004.

Purpose:

The purpose of this information is to verity the identify of visitors in order to protect the employees and property of the Commission, verify that visitors entering the property are authorized to do so, and track the time, date, and location of the visitor so that, in the event of emergency, the agency can account for all the people in its space.

Routine Uses of Records Maintained in the System:

Information in this system may be disclosed in accordance with the General Statement of Routine Uses.

Policies and Practices for Storing, Retrieving, Safeguarding Access, Retaining, and Disposing of Records in the System:

Storage:

Computer records are stored in a stand-alone database. Paper reports from the system are kept in a locked file.

Retrievability:

By date, and by visitor name.

Safeguards:

In addition to general building security, access to the visitor database is protected by password. The system, as a stand-alone database, is not accessible through the CFTC network. Reports are kept in a locked file with limited key access.

Retention and Disposal:

Records will be retained for three months and then purged.

System Manager(s) and Address:

Tammy Semega, Deputy Director, Office of the Executive Director, Office of Management Operations, Commodity Futures Trading Commission, Three Lafayette Centre, 1155 21st Street, NW., Washington, DC 20581.

Notification Procedure:

Individuals seeking to determine whether this system of records contains information about themselves, or seeking access to records about themselves in the system of records, or contesting the content of records about themselves contained in this system of records should address written inquiry to the FOI Privacy and Sunshine Acts Compliance Staff, Commodity Futures Trading Commission, Three Lafayette Centre, 1155 21st Street, NW., Washington, DC 20581.

Record Source Categories:

The individual on whom the record is maintained.

Issued in Washington, DC, on April 25, 2007.
Eileen Donovan,
Acting Secretary of the Commission.

[FR Doc. 07-2117 Filed 4-30-07; 8:45 am]

BILLING CODE 6351-01-M